DEPARTMENT OF AGRICULTURE

Forest Service

False Island Timber Sale(s), Sitka Ranger District, Tongass National Forest

AGENCY: Forest Service, USDA.

ACTION: Notice of intent to prepare an environmental impact statement.

SUMMARY: The Department of Agriculture, Forest Service will prepare an Environmental Impact Statement (EIS) for the False Island Timber Sale(s) project to disclose the environmental effects of proposed actions within the Project Area. The proposed project is located on Chichagof Island, part of the Sitka Ranger District of the Tongass National Forest. The proposed action provides for: (1) Timber harvest on approximately 1,400 acres of forested land resulting in the production of an estimated 44,000 CCF (hundred cubic feet) of sawlog and utility timber, (2) construction of approximately seven miles of specified road, eight miles of temporary road, and reconstruction of seven miles of previously constructed road, and (3) reconstruction of two existing log transfer facilities.

DATES: To be most useful, comments concerning the scope of the analysis for this project should be received within 45 days of publication.

ADDRESSES: Send written comments to: False Island Planning Team, Sitka Ranger District, 204 Siginaka Way, Sitka, AK 99835.

FOR FURTHER INFORMATION CONTACT: Carol Goularte, District Ranger or Rick Abt, Team Leader, phone (907) 747-4220, fax (907) 747-4253.

SUPPLEMENTARY INFORMATION:

This EIS will tier to the EIS for the 1997 Tongass Land and Resource Management Plan (TLRMP) that provides the overall guidance, goals, objectives, standards, guidelines, and management area direction to achieve the desired condition for the project area.

The False Island Project Area is located on the southeastern part of Chichagof Island about 35 air miles north of Sitka, Alaska, approximately 20 air miles west of Angoon, Alaska, and an estimated 15 air miles south of Tenakee Springs, Alaska. The Project Area is administered by the Sitka Ranger District of the Tongass National Forest, Sitka, Alaska and occurs in Value Comparison Units (VCU) 2410, 2420, 2430, 2440, and 2450 as designated by the TLRMP. The Project Area includes approximately 82,513 acres. It lies south of Kadashan River, extends east from Oly Creek to Lindenberg Head, and continues north of Little Basket Lake. The purpose and need for the False Island Timber Sales(s) Project is: (1) To implement the direction contained in the 1997 TLRMP and the 1997 ROD, including goals, objectives, management prescriptions, and standards and guidelines; (2) to maintain wood production from suitable timber lands, providing a continuous supply of wood to meet society's needs; (3) to help provide a stable supply of timber from the Tongass National Forest that meets existing and potential market demand and is consistent with sound multiple use and sustained yield objectives; and (4) to help meet the desired future condition of the landscape as described in the 1997 TLRMP. The False Island Timber Sale(s) Project is consistent with the 1997 Tongass Land Management Plan.

The Project Area includes portions of the Chicagof Roadless Area (311). In 2001, the Secretary of Agriculture began a review of the roadless area rule, and the Chief of the Forest Service undertook a review of the road management policy. These reviews have led the agency to initiate several Interim Directives intended to ensure full consideration of the values associated with inventoried roadless areas within the context of forest planning. In Sierra Club v. Lyons (J00-0009 (CV)), the U.S. District Court, District of Alaska enjoined the Tongass National Forest from taking any action to change the wilderness character of any roadless area until a Supplement to the 1997 TLMP Environmental Impact Statement (SEIS) has been completed. This SEIS is currently being prepared. Planning for the False Island Timber Sale(s) Project will continue simultaneously and in coordination with the SEIS and will meet the requirements in the Interim Directives. The repercussions of delaying the project planning process regarding road building and timber harvest, even for a relatively short period, can have a significant effect on the amount of timber available for sale.

The Project Area includes Old Growth Reserves (OGR) as designated in TLRMP. Sealaska Regional Native Corporation has recently acquired portions of these OGRs as a result of a land conveyance. A Forest Plan amendment may be required to change the location of the OGR to meet Forest Plan standards.

Decisions to be made include whether or not to authorize timber harvest within the False Island Project Area. In addition, if timber harvest will occur, the following will be determined: (1) Whether the design of the timber sale(s) is consistent with meeting the resource protection standards and guidelines set forth in the 1997 TLRMP and the 1997 ROD; (2) how much timber volume will be made available; (3) the location and design of the timber harvest units, log transfer facilities and road system, (4) mitigation and monitoring required for sound resource management, (5) whether there is a significant possibility of a significant restriction on subsistence uses, (6) road management objectives, including closures for resource protection and economics; and (7) the location for new OGR designation. In order to maintain the TLRMP standards for old growth, a Forest Plan amendment may be required to change the location of the medium OGR.

Tribal Governments, Federal, State, and local agencies, as well as individuals and organizations that may be interested in, or affected by, the Proposed Action are invited to participate in the scoping process. This process will determine the scope of the project and significant issues to be analyzed in depth in the Environmental Impact Statement. Following publication of this notice, a scoping document will be mailed to interested people and organizations. The document will briefly describe the project and Project Area, the purpose and need for the project, the Proposed Action, and will invite public comment. Scoping meetings will then be held in Sitka and Angoon, Alaska. Locations and times of the scoping meetings will be announced in local newspapers and on local radio stations.

The Interdisciplinary Planning Team will review comments received during the scoping period to determine which issues are significant and within the scope of this project. The team will then develop a range of alternatives to address the significant issues. One of these will be the “No Action” alternative, in which no additional timber harvest or road construction is proposed. Other alternatives will consider various levels and locations of timber harvest in response to issues and non-timber objectives. The team will then prepare a Draft Environmental Impact Statement (DEIS) that will display the alternatives and the direct, indirect, and cumulative effects of each alternative.

The DEIS is expected to be filed with the Environmental Protection Agency (EPA) by November 2002. The comment period on the DEIS will be 45 days from the date the EPA publishes the Notice of Availability in the Federal Register. In addition to commenting on the proposed action and the DEIS when it is released, agencies and other interested persons or groups are invited to write to or speak with Forest Service officials at any time during the planning process.

The Forest Service believes that at this early scoping stage, it is important to inform reviewers of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the comment period so that substantive comments and objections are made available to the Forest Service at a time during which the agency can meaningfully consider them and respond to them in the Final Environmental Impact Statement.

To assist the Forest Service in identifying and considering issues and concerns on the Proposed Action, comments on the Draft Environmental Impact Statement should be as specific as possible. It is also helpful if comments refer to specific pages or chapters of the draft statement. Comments may also address the adequacy of the DEIS or the merits of the alternatives formulated and discussed in the statement. Reviewers may wish to refer to the Council on Environmental Quality regulations for implementing the procedural provisions of the National Environmental Policy Act at 40 CFR 1503.3 in addressing these points.

Comments received in response to this solicitation, including the names and addresses of those who comment, will be considered part of the public record on this Proposed Action, will be available for public inspection, and may be released under the Freedom of Information Act (FOIA). Comments submitted anonymously will be accepted and considered; however, those who submit anonymous comments will not have standing to appeal the subsequent decision under 36 CFR parts 215 or 217. Additionally, pursuant to 7 CFR 1.27(d), any person may request that the agency withhold a submission from the public record by showing how the Freedom of Information Act permits such confidentiality. Persons requesting such confidentiality should be aware that, under the FOIA, confidentiality may be granted in only very limited circumstances, such as to protect trade secrets. The Forest Service will inform persons requesting confidentiality of the agency's decision regarding their request, and where the request is denied, the agency will return the submission and notify the requester that the comments may be resubmitted with or without the name and address.

The Final Environmental Impact Statement (FEIS) and Record of Decision for the False Island Timber Sale(s) is expected to be released in June 2003. The Responsible Official will make a decision regarding this proposal after considering public comments, the environmental consequences displayed in the FEIS, and applicable laws, regulations, and policies. The decision and supporting reasons will be documented in the Record of Decision (ROD). Permits required for implementation include the following

1. U.S. Army Corp of Engineers

—Approval of discharge of dredged or fill material into the waters of the United States under Section 404 of the Clean Water Act;

—Approval of the construction of structures or work in navigable waters of the United States under Section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Tom Puchlerz, Forest Supervisor, Tongass National Forest, 648 Mission Street, Ketchikan, Alaska 99901-6591, is the Responsible Official. In making the decision, the Responsible Official will consider the comments, responses, disclosure of environmental consequences, and applicable laws, regulations, and policies. The Responsible Official will state the rationale for the chosen alternative in the Record of Decision.

Dated: July 29, 2002.
Thomas Puchlerz,
Forest Supervisor.

[FR Doc. 02-19622 Filed 8-2-02; 8:45 am]

BILLING CODE 3410-11-M